DEPARTMENT OF DEFENSE

Department of the Army; Corps of Engineers

Coastal Engineering Research Board

AGENCY: Department of the Army, DoD.

ACTION: Notice of open meeting.

SUMMARY: In accordance with Section 10(a)(2) of the Federal Advisory Committee Act (Pub. L. 92-463), announcement is made of the following committee meeting:

Name of Committee: Coastal Engineering Research Board (CERB).

Dates of Meeting: October 28-30, 2003.

Place: The Hilton Portland, Portland, Oregon.

Time: 4:45 p.m. to 8 p.m. (October 28, 2003). 8 a.m. to 5 p.m. (October 29, 2003). 7:30 a.m. to 6:15 p.m. (October 30, 2003).

FOR FURTHER INFORMATION CONTACT: Inquiries and notice of intent to attend the meeting may be addressed to Thomas W. Richardson, Acting Executive Secretary, Coastal and Hydraulics Laboratory, U.S. Army Engineer Research and Development Center, Waterways Experiment Station, 3909 Halls Ferry Road, Vicksburg, Mississippi 39180-6199.

SUPPLEMENTARY INFORMATION: Proposed Agenda: The theme of the meeting is “Navigation and Regional Sediment Management in the Northwest.” On Tuesday evening, October 28, there will be a joint icebreaker boat trip with PIANC. On Wednesday, October 29, presentations will include: “Functional Performance of Navigation Projects;” “Northwest Harbor Operational Issues;” “IOOS Regional Coastal Program for the Northwest;” “Northwest Regional Sediment Management (RSM) Issues;” “Mouth of the Columbia (MCR) RSM Project;” “Environmental Challenges at the MCR;” “Environmental Data Collection Challenges at the MCR;” “RSM in the Columbia River Basin;” “Wave Data Needs and Analysis in the North Pacific;” “Climatic Variability and Trends in the Columbia River Basin from 1750-2003 and Projections of Climate Change Impacts for the 21st Century;” “Columbia River Littoral Cell (Geological Framework);” “Developing Analytical Tools to Support RSM, Grays Harbor, and Willapa Bay;” and “Applying Technology for Project RSM Grays Harbor and Willapa Bay.” On Thursday morning, October 30, of the Board will tour the Mouth of the Columbia River Basin via helicopter and will meet in an Executive Session Thursday afternoon.

These meetings are open to the public; participation by the public is scheduled for 4 p.m. on October 29.

The entire meeting is open to the public, but since seating capacity of the meeting room is limited, advance notice of intent to attend, although not required, is requested in order to assure adequate arrangements. Oral participation by public attendees is encouraged during the time scheduled on the agenda; written statements may be submitted prior to the meeting or up to 30 days after the meeting.

Thomas W. Richardson,
Director, Coastal and Hydraulics Laboratory, Acting Executive Secretary.

[FR Doc. 03-25622 Filed 10-8-03; 8:45 am]

BILLING CODE 3710-61-M